DEPARTMENT OF HOMELAND SECURITY

U.S. Citizenship and Immigration Services

[OMB Control Number 1615-0105]

Agency Information Collection Activities: Notice of Entry of Appearance as Attorney or Accredited Representative; Notice of Entry of Appearance as Attorney In Matters Outside the Geographical Confines of the United States, Form G-28; G-28I; Revision of a Currently Approved Collection.

ACTION: 60-Day notice.

SUMMARY: The Department of Homeland Security (DHS), U.S. Citizenship and Immigration Services (USCIS) invites the general public and other Federal agencies to comment upon this proposed revision of a currently approved collection of information. In accordance with the Paperwork Reduction Act (PRA) of 1995, the information collection notice is published in the Federal Register to obtain comments regarding the nature of the information collection, the categories of respondents, the estimated burden (i.e., the time, effort, and resources used by the respondents to respond), the estimated cost to the respondent, and the actual information collection instruments.

USCIS is also soliciting comments regarding additional features proposed for incorporation into form G-28. The new features clarify USCIS notification practices relating to represented parties. Specifically, USCIS is revising the G-28 to provide that, for represented parties DHS will send all original notices and documents regarding any application or petition filed with DHS to the applicants and petitioners directly with a courtesy copy sent to the attorney of record or accredited representative. However, on the form the applicant or petitioner may instruct USCIS to (a) send any notice regarding an application or petition that he or she has filed with DHS to the business address of their attorney of record or accredited representative as listed in the form, or; (b) send any secure identity document, such as a Permanent Resident Card or Employment Authorization Document, that he or she is approved, for to the official business address of his or her attorney of record or accredited representative. The proposed new forms are available for review in the docket.

DATES: Comments are encouraged and will be accepted for 60 days until July 18, 2014.

ADDRESSES: All submissions received must include the OMB Control Number 1615-0105 in the subject box, the agency name and Docket ID USCIS-2008-0037. To avoid duplicate submissions, please use only one of the following methods to submit comments:

(1) Online. Submit comments via the Federal eRulemaking Portal Web site at www.regulations.gov under e-Docket ID number USCIS-2008-0037;

(2) Email. Submit comments to USCISFRComment@uscis.dhs.gov;

(3) Mail. Submit written comments to DHS, USCIS, Office of Policy and Strategy, Chief, Regulatory Coordination Division, 20 Massachusetts Avenue NW., Washington, DC 20529-2140.

SUPPLEMENTARY INFORMATION:

Comments

Regardless of the method used for submitting comments or material, all submissions will be posted, without change, to the Federal eRulemaking Portal at http://www.regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of http://www.regulations.gov.

Note: The address listed in this notice should only be used to submit comments concerning this information collection. Please do not submit requests for individual case status inquiries to this address. If you are seeking information about the status of your individual case, please check “My Case Status” online at: https://egov.uscis.gov/cris/Dashboard.do, or call the USCIS National Customer Service Center at 1-800-375-5283.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Revision of a Currently Approved Collection.

(2) Title of the Form/Collection: Notice of Entry of Appearance as Attorney or Accredited Representative; Notice of Entry of Appearance as Attorney In Matters Outside the Geographical Confines of the United States.

(3) Agency form number, if any, and the applicable component of the DHS sponsoring the collection: G-28; G-28I; USCIS.

(4) Affected public who will be asked or required to respond, as well as a brief abstract: Primary: Business or other for-profit. The information collected on forms G-28 and G-28I allow an attorney to identify their representation of person in matters either within the geographical confines of the United States, or outside of the geographical confines of the United States respectively.

(5) An estimate of the total number of respondents and the amount of time estimated for an average respondent to respond: For the paper G-28, 2,223,700 respondents with an average response time of .833 hour (50 minutes); for the ELIS-filed G-28, 281,950 respondents with and average response time of .667 hour (40 minutes); for the paper G-28I, 25,057 respondents with an average response time of .833 hour (50 minutes).

(6) An estimate of the total public burden (in hours) associated with the collection: 2,057,943 annual burden hours.

If you need a copy of the information collection instrument with instructions, or additional information, please visit the Federal eRulemaking Portal site at: http://www.regulations.gov. We may also be contacted at: USCIS, Office of Policy and Strategy, Regulatory Coordination Division, 20 Massachusetts Avenue NW., Washington, DC 20529-2140, Telephone number 202-272-8377.

Dated: May 14, 2014.
Laura Dawkins,
Chief, Regulatory Coordination Division, Office of Policy and Strategy, U.S. Citizenship and Immigration Services, Department of Homeland Security.

[FR Doc. 2014-11530 Filed 5-16-14; 8:45 am]

BILLING CODE 9111-97-P